DEPARTMENT OF TRANSPORTATION

Federal Aviation Administration

Results of FAA Nitrous Oxide BLEVE Characterization Testing

AGENCY: Federal Aviation Administration (FAA), DOT.

ACTION: Notice of public teleconference.

SUMMARY: This notice announces a public teleconference to share with the public results of recent FAA sponsored testing of nitrous oxide (N2O) characteristics. Nitrous oxide is an important oxidizer to developers of some commercial reusable launch vehicles. A potential hazard in nitrous oxide storage and handling is a Boiling Liquid Expanding Vapor Explosion (BLEVE), which results from a sudden loss of pressure in a tank containing nitrous oxide stored under pressure above its normal boiling point. The FAA's Office of Commercial Space Transportation sponsored tests of liquid-phase nitrous oxide at NASA's White Sands Test Facility to empirically determine the superheat limit temperature for nitrous oxide, and to demonstrate that a BLEVE would not occur if the liquid is maintained at temperatures below this superheat limit temperature.

Meeting Information: The teleconference is scheduled for Thursday, February 28, 2013, from 1:00-2:30 p.m. Eastern Standard Time. The presentation and call-in number will be posted one week in advance at http://www.ast.faa.gov/.

FOR FURTHER INFORMATION CONTACT: Stewart Jackson, Division Manager, Regulations and Analysis Division, AST-300, Office of Commercial Space Transportation, Federal Aviation Administration, 800 Independence Avenue SW., Washington, DC 20591, Telephone (202) 267-7903, or email at stewart.jackson@faa.gov.

Issued in Washington, DC, on January 22, 2013.
George C. Nield,
Associate Administrator for Commercial Space Transportation.

[FR Doc. 2013-02046 Filed 1-29-13; 8:45 am]

BILLING CODE 4910-13-P